DEPARTMENT OF TRANSPORTATION

Federal Aviation Administration

14 CFR Part 39

[Docket No. FAA-2011-0997; Directorate Identifier 2011-NM-043-AD; Amendment 39-16963; AD 2012-04-07]

RIN 2120-AA64

Airworthiness Directives; Airbus Airplanes

AGENCY: Federal Aviation Administration (FAA), Department of Transportation (DOT).

ACTION: Final rule.

SUMMARY: We are adopting a new airworthiness directive (AD) for certain Airbus Model A330-200 series airplanes; Model A330-300 series airplanes; Model A340-200 series airplanes; and Model A340-300 series airplanes. This AD was prompted by a report that three failures of the retraction bracket occurred during fatigue testing before the calculated life limit of the main landing gear (MLG). This AD requires repetitive replacement of the affected retraction bracket of the MLG. We are issuing this AD to prevent failure of the retraction bracket, which could result in a MLG extension with no damping, and consequent structural damage of the MLG.

DATES: This AD becomes effective April 9, 2012.

ADDRESSES: You may examine the AD docket on the Internet at http://www.regulations.gov or in person at the U.S. Department of Transportation, Docket Operations, M-30, West Building Ground Floor, Room W12-140, 1200 New Jersey Avenue SE., Washington, DC.

FOR FURTHER INFORMATION CONTACT: Vladimir Ulyanov, Aerospace Engineer, International Branch, ANM-116, Transport Airplane Directorate, FAA, 1601 Lind Avenue SW., Renton, Washington 98057-3356; telephone (425) 227-1138; fax (425) 227-1149.

SUPPLEMENTARY INFORMATION:

Discussion

We issued a notice of proposed rulemaking (NPRM) to amend 14 CFR part 39 to include an AD that would apply to the specified products. That NPRM was published in the Federal Register on October 5, 2011 (76 FR 61645). That NPRM proposed to correct an unsafe condition for the specified products. The MCAI states:

During fatigue testing of the MLG [main landing gear], three failures of the retraction bracket occurred before the calculated life limitation. Further analysis has confirmed that those failures were due to fatigue initiated by fretting between the bush and lug bore.

The failure of the retraction bracket, if not detected, could lead to a MLG extension with no damping resulting in MLG structural damage.

Airbus carried out an investigation, demonstrating that the life limit of retraction brackets must be reduced to 19,800 Landings (LDG), which is below the life limit stated in the following A330 and A340 Airbus ALS Part 4 revisions:

—Airbus A330 ALS Part 4 revision 02 approved by EASA on 16 December 2009.

—Airbus A340 ALS Part 4 revision 01 approved by EASA on 15 December 2009.

In order to maintain the structural integrity of the aeroplane, this [EASA] AD requires the replacement of these MLG retraction brackets before the accumulation of 19,800 total LDG.

You may obtain further information by examining the MCAI in the AD docket.

Comments

We gave the public the opportunity to participate in developing this AD. We received no comments on the NPRM (76 FR 61645, October 5, 2011) or on the determination of the cost to the public.

Explanation of Change Made to This AD

We have re-designated Notes 1 and 2 of the NPRM (76 FR 61645, October 5, 2011) as paragraph (h) in this final rule, and re-identified subsequent paragraphs accordingly.

Conclusion

We reviewed the relevant data, and determined that air safety and the public interest require adopting the AD with the change described previously—and minor editorial changes. We have determined that these minor changes:

• Are consistent with the intent that was proposed in the NPRM (76 FR 61645, October 5, 2011) for correcting the unsafe condition; and

• Do not add any additional burden upon the public than was already proposed in the NPRM (76 FR 61645, October 5, 2011).

We also determined that these changes will not increase the economic burden on any operator or increase the scope of the AD.

Costs of Compliance

We estimate that this AD will affect 29 products of U.S. registry. We also estimate that it will take about 25 work-hours per product to comply with the basic requirements of this AD. The average labor rate is $85 per work-hour. Required parts will cost about $200,000 per product. Based on these figures, we estimate the cost of this AD to the U.S. operators to be $5,861,625, or $202,125 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM (76 FR 61645, October 5, 2011), the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2012-04-07 Airbus: Amendment 39-16963. Docket No. FAA-2011-0997; Directorate Identifier 2011-NM-043-AD.

(a) Effective Date

This airworthiness directive (AD) becomes effective April 9, 2012.

(b) Affected ADs

None.

(c) Applicability

This AD applies to Airbus Model A330-201, -202, -203, -223, -243, -301, -302, -303, -321, -322, -323, -341, -342, and -343 airplanes; and Model A340-211, -212, -213, -311, -312, and -313 airplanes; certificated in any category, all manufacturer serial numbers; except airplanes on which Airbus modification 54500 has been embodied in production; and except airplanes on which Airbus Service Bulletin A330-32-3212 or Airbus Service Bulletin A340-32-4256 has been embodied in service; as applicable to airplane model.

(d) Subject

Air Transport Association (ATA) of America Code 32: Landing Gear.

(e) Reason

This AD was prompted by a report that three failures of the retraction bracket occurred during fatigue testing before the calculated life limit of the main landing gear (MLG). We are issuing this AD to prevent failure of the retraction bracket, which could result in a MLG extension with no damping, and consequent structural damage of the MLG.

(f) Compliance

You are responsible for having the actions required by this AD performed within the compliance times specified, unless the actions have already been done.

(g) Replacement

Before the accumulation of 19,800 total landings on the retraction brackets of the MLG or within 900 flight hours after the effective date of this AD, whichever occurs later: Replace the affected retraction bracket of the MLG specified in table 1 of this AD with a serviceable part, in accordance with a method approved by the Manager, International Branch, ANM-116, FAA, or European Aviation Safety Agency (EASA) (or its delegated agent). Thereafter, before the accumulation of 19,800 total landings on any retraction bracket of the MLG identified in table 1 of this AD, replace the retraction bracket with a serviceable part, in accordance with a method approved by the Manager, International Branch, ANM-116, FAA, or EASA (or its delegated

Table 1—Retraction Bracket of the MLG
Nomenclature | Part No.
Retraction Bracket of the MLG | 201478303
| 201478304
| 201478305
| 201478306
| 201478307
| 201478308
| 201428380
| 201428381
| 201428382
| 201428383
| 201428384
| 201428385
| 201428378
| 201428379
| 201428351
| 201428352

Note 1 to paragraph (g) of this AD: Additional guidance for the replacement can be found in Task 32-11-11-000-804-A, Removal of the MLG Retraction Bracket Assembly, and Task 32-11-11-400-804-A, Installation of the MLG Retraction Bracket Assembly, of Subsection 32-11-11 of Chapter 32 of the Airbus A330 or A340 Aircraft Maintenance Manual, as applicable.

(h) Definitions

(1) For purposes of this AD, “total landings” is defined as the accumulated landings since the initial entry of the MLG retraction bracket into service on any airplane.

(2) For purposes of this AD, the initial entry into service for the transferable systems components/items is defined as the date at which the component/item accomplishes the first flight for which it will undertake its intended function.

(i) Other FAA AD Provisions

The following provisions also apply to this AD:

(1) Alternative Methods of Compliance (AMOCs): The Manager, International Branch, ANM-116, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, Washington 98057-3356; telephone (425) 227-1138; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(j) Related Information

(1) Refer to MCAI Airworthiness Directive EASA AD 2010-0205, dated October 8, 2010, for related information.

(2) For Airbus service information identified in this AD contact Airbus SAS—Airworthiness Office—EAL, 1 Rond Point Maurice Bellonte, 31707 Blagnac Cedex, France; telephone +33 5 61 93 36 96; fax +33 5 61 93 45 80; email airworthiness.A330-A340@airbus.com; Internet http://www.airbus.com.

(k) Material Incorporated by Reference

None.

Issued in Renton, Washington, on February 14, 2012.
Kalene C. Yanamura,
Acting Manager, Transport Airplane Directorate, Aircraft Certification Service.

[FR Doc. 2012-4498 Filed 3-2-12; 8:45 am]

BILLING CODE 4910-13-P